SOCIAL SECURITY ADMINISTRATION

[Docket No. SSA-2020-0009]

Privacy Act of 1974; Matching Program

AGENCY: Social Security Administration (SSA).

ACTION: Notice of a New Matching Program.

SUMMARY: In accordance with the provisions of the Privacy Act, as amended, this notice announces a new matching program with the United States Department of Health and Human Services, Administration for Children and Families, Office of Child Support Enforcement (OCSE).

Under this matching program, OCSE will provide SSA the quarterly wage (QW) information from the National Directory of New Hires (NDNH) for the administration of Title II Disability Insurance (DI). The computer matching agreement governs the use, treatment, and safeguarding of the information exchanged.

SSA will use the QW information to establish or verify eligibility, continuing entitlement, or payment amounts, or all of the above, of individuals under the DI program.

DATES: The deadline to submit comments on the proposed matching program is 30 days from the date of publication of this notice in the Federal Register. The matching program will be applicable on December 23, 2020, or once a minimum of 30 days after publication of this notice has elapsed, whichever is later. The matching program will be in effect for a period of 18 months.

ADDRESSES: Interested parties may comment on this notice by either telefaxing to (410) 966-0869, writing to Matthew Ramsey, Executive Director, Office of Privacy and Disclosure, Office of the General Counsel, Social Security Administration, G-401 WHR, 6401 Security Boulevard, Baltimore, MD 21235-6401, or emailing Matthew.Ramsey@ssa.gov. All comments received will be available for public inspection by contacting Mr. Ramsey at this street address.

FOR FURTHER INFORMATION CONTACT: Interested parties may submit general questions about the matching program to Andrea Huseth, Division Director, Office of Privacy and Disclosure, Office of the General Counsel, Social Security Administration, G-401 WHR, 6401 Security Boulevard, Baltimore, MD 21235-6401, at telephone: (410) 966-5855, or send an email to Andrea.Huseth@ssa.gov.

Matthew Ramsey,
Executive Director, Office of Privacy and Disclosure, Office of the General Counsel.

PARTICIPATING AGENCIES:

SSA and OCSE.

AUTHORITY FOR CONDUCTING THE MATCHING PROGRAM:

The legal authority for disclosures under the computer matching agreement, hereinafter “agreement,” is section 453(j)(4) of the Social Security Act (Act), which provides that OCSE shall provide the Commissioner of Social Security with all information in the NDNH. 42 U.S.C. 653(j)(4).

Section 224(h)(1) of the Act provides that the head of any federal agency shall provide information within its possession as the Commissioner of Social Security may require for purposes of making a timely determination of the amount of the reduction, if any, required by section 224 in benefits payable under Title II of the Act. 42 U.S.C. 424a(h).

Disclosures under this agreement shall be made in accordance with 5 U.S.C. 552a(b)(3), which allows disclosure under a routine use that has been published in a system of records (SOR) notice as required by the Privacy Act, and also in compliance with the matching procedures in 5 U.S.C. 552a(o), (p), and (r), which describe matching agreements, verification by agencies of information, and the opportunity for individuals to contest agency findings, and the obligations on agencies to report proposals to establish or change matching programs to Congress and the Office of Management and Budget.

PURPOSE(S):

The agreement governs a matching program between OCSE and SSA. The agreement covers the QW batch match for Title II DI. The agreement also governs the use, treatment, and safeguarding of the information exchanged. OCSE is the “source agency” and SSA is the “recipient agency,” as defined by the Privacy Act. 5 U.S.C. 552a(a)(9) and (11).

SSA will use the QW information to establish or verify eligibility, continuing entitlement, or payment amounts, or all of the above, of individuals under the DI program.

CATEGORIES OF INDIVIDUALS:

The individuals whose information is involved in this matching program are beneficiaries under the Title II Disability Insurance (DI) program.

CATEGORIES OF RECORDS:

SSA will provide electronically to OCSE the following data elements in the finder file:

• Individual's Social Security number (SSN)

• Name (first, middle, and last name)

OCSE will provide electronically to SSA the following data elelments from the NDNH in the QW file:

• QW record identifier

• For employees:

(1) Name (first, middle, last)

(2) SSN

(3) Verification request code

(4) Processed date

(5) Non-verifiable indicator

(6) Wage amount

(7) Reporting period

• For employers of individuals in the QW file of the NDNH:

(1) Name (first, middle, last)

(2) Employer identification number

(3) Address(es)

• Transmitter agency code

• Transmitter state code

• State or agency name

SYSTEM(S) OF RECORDS:

SSA's SORs are the Master Beneficiary Record (MBR), 60-0090 last fully published at 71 Federal Register (FR) 1826 (January 11, 2006), updated at 72 FR 69723 (December 10, 2007), at 78 FR 40542 (July 5, 2013), at 83 FR 31250-51 (July 3, 2018), and at 83 FR 5499696 (November 1, 2018) and the Completed Determination Record—Continuing Disability Determinations (CDR-CDD) file, 60-0050 last fully published at 71 FR 1813 (January 11, 2006), updated at 72 FR 69723 (December 10, 2007), and at 83 FR 54969 (November 1, 2018).

OCSE will match SSA information in the MBR and CDR-CDD against the QW information maintained in the NDNH. The NDNH contains new hire, QW, and unemployment information furnished by state and federal agencies and is maintained by OCSE in its SOR “OCSE National Directory of New Hires,” No. 09-80-0381, published in the Federal Register at 80 FR 17906 (April 2, 2015). The disclosure of NDNH information by OCSE to SSA constitutes a “routine use,” as defined by the Privacy Act. 5 U.S.C. 552a(b)(3). Routine use (9) of the system of records authorizes the disclosure of NDNH information to SSA for this purpose. 80 FR 17906-07 (April 2, 2015).

[FR Doc. 2020-23376 Filed 10-21-20; 8:45 am]

BILLING CODE 4191-02-P